DEPARTMENT OF COMMERCE

International Trade Administration

(C-533-825)

Polyethylene Terephthalate Film, Sheet, and Strip from India: Notice of Partial Rescission of Administrative Review of the Countervailing Duty Order

AGENCY: Import Administration, International Trade Administration, Department of Commerce.

EFFECTIVE DATE: April 10, 2008.

FOR FURTHER INFORMATION CONTACT: Elfi Blum, AD/CVD Operations, Office 6, Import Administration, International Trade Administration, U.S. Department of Commerce, 14th Street and Constitution Avenue, NW, Washington, DC 20230; telephone: (202) 482-0197.

SUPPLEMENTARY INFORMATION:

Background

On July 3, 2007, the Department of Commerce (the Department) published a notice of opportunity to request an administrative review of the countervailing duty order on Polyethylene Terephthalate (PET) Film, Sheet, and Strip from India. See Antidumping or Countervailing Duty Order, Finding, or Suspended Investigation; Opportunity To Request Administrative Review, 72 FR 36420 (July 3, 2006). On July 30, 2006, MTZ Polyfilms, Ltd. (MTZ) and Jindal Poly Films Limited of India (Jindal) timely requested that the Department conduct an administrative review of merchandise MTZ and Jindal produced and exported.

The Department published a notice of the initiation of the countervailing duty administrative review of PET Film from India for MTZ and Jindal for the period January 1, 2006 through December 31, 2006. See Initiation of Antidumping and Countervailing Duty Administrative Reviews and Requests for Revocation in Part, 72 FR 48613 (August 24, 2007). On October 3, 2007, Jindal withdrew its request for an administrative review.

Partial Rescission of Review

The Department's regulations at section 351.213(d)(1) provide that the Department will rescind an administrative review if the party that requested the review withdraws its request for review within 90 days of the date of publication of the notice of initiation of the requested review, or withdraws its request at a later date if the Department determines that it is reasonable to extend the time limit for withdrawing the request. Jindal submitted its request within the 90 day limit set by the regulations. Since no other parties requested a review of Jindal, the Department is rescinding the administrative review of the countervailing duty order on PET film, sheet and strip from India for the period January 1, 2006 through December 31, 2006, for Jindal. MTZ remains subject to this administrative review. The preliminary results for the administrative review of MTZ are currently due July 30, 2008.

Assessment

The Department will instruct U.S. Customs and Border Protection (CBP) to assess countervailing duties on all appropriate entries. Jindal shall be assessed countervailing duties at rates equal to the cash deposit of the estimated countervailing duties required at the time of entry, or withdrawal from warehouse, for consumption, in accordance with 19 CFR 351.212(c)(1)(i). The Department will issue appropriate assessment instructions to CBP 15 days after the date of publication of this notice of rescission of administrative review.

Cash Deposit Rates

Jindal's cash deposit rate continues to be the rate established in the final result of the last administrative review for Jindal. This cash deposit requirement shall remain in effect until publication of the final results of the next administrative review for Jindal.

Notification Regarding APOs

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

This notice is issued and published in accordance with sections 751(a)(1) and 777(i) of the Tariff Act of 1930, as amended, and 19 CFR 351.213(d)(4).

Dated: April 2, 2008.
Stephen J. Claeys,
Deputy Assistant Secretary for Import Administration.

[FR Doc. E8-7628 Filed 4-9-08; 8:45 am]

BILLING CODE 3510-DS-S